DEPARTMENT OF TRANSPORTATION

Federal Aviation Administration

Notice of Intent To Rule on Request To Release Airport Property at the Liberal Mid-America Regional Airport, Liberal, KS

AGENCY: Federal Aviation Administration, (FAA), DOT.

ACTION: Notice of Request to Release Airport Property.

SUMMARY: The FAA proposes to rule and invites public comment on the release of land at the Liberal Mid-America Regional Airport under the provisions of Section 125 of the Wendell H. Ford Aviation Investment Reform Act for the 21st Century (AIR 21).

DATES: Comments must be received on or before August 25, 2008.

ADDRESSES: Comments on this application may be mailed or delivered to the FAA at the following address: Federal Aviation Administration, Central Region, Airports Division, 901 Locust, Kansas City, Missouri 64106-2325.

In addition, one copy of any comments submitted to the FAA must be mailed or delivered to Ms. Debra S. Giskie, Airport Manager, at the following address: City of Liberal, P.O. Box 2199, Liberal, KS 67905-2199.

FOR FURTHER INFORMATION CONTACT: Nicoletta Oliver, Airports Compliance Specialist, FAA, Central Region, 901 Locust, Kansas City, MO 64106-2325, (816) 329-2642.

The request to release property may be reviewed in person at this same location.

SUPPLEMENTARY INFORMATION: The FAA proposes to rule and invites public comment on the request to release property at the Liberal Mid-America Regional Airport under the provisions of AIR 21.

On July 10, 2008, the FAA determined that the request to release property at the Liberal Mid-America Regional Airport submitted by the City of Liberal, met the procedural requirements of the Federal Aviation Administration. The FAA will approve or disapprove the request, in whole or in part, no later than October 30, 2008.

The following is a brief overview of the request.

The City of Liberal requests the release of approximately 61.05 acres of airport property. The purpose of this release is to allow the City to sell this property to generate revenue for the airport and make it as self-sustaining as possible. The land is vacant and not needed for aviation purposes.

Any person may inspect the request in person at the FAA office listed above under FOR FURTHER INFORMATION CONTACT.

In addition, any person may, upon request, inspect the application, notice and other documents germane to the request in person at the Liberal Mid-America Regional Airport, Liberal, Kansas.

Issued in Kansas City, Missouri, on July 10, 2008.
Michael Faltermeier,
Acting Manager, Airports, Central Region.

[FR Doc. E8-17005 Filed 7-24-08; 8:45 am]

BILLING CODE 4910-13-M